FEDERAL COMMUNICATIONS COMMISSION

47 CFR Part 25

[IB Docket Nos. 22-411, 22-271; FCC 22-95; FR ID 121634]

Expediting Initial Processing of Satellite and Earth Station Applications; Space Innovation

AGENCY: Federal Communications Commission.

ACTION: Proposed rule.

SUMMARY: In this document, the Federal Communications Commission (Commission) seeks comment on changes to our rules, policies, or practices to facilitate the acceptance for filing of satellite and earth station applications. We propose to revise a procedural rule to formally allow consideration of satellite applications and petitions that request waiver of the Table of Frequency Allocations to operate in a frequency band without an international allocation. We also seek comment on typical processing timeframes for satellite applications. This document will help Commission processing stay apace with the unprecedented number of innovative satellite applications in the new space age.

DATES: Comments are due March 3, 2023. Reply comments are due April 3, 2023.

ADDRESSES: You may submit comments, identified by IB Docket Nos. 22-411 and 22-271, by any of the following methods:

• FCC Website: https://apps.fcc.gov/ecfs. Follow the instructions for submitting comments.

• People With Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Clay DeCell, 202-418-0803.

SUPPLEMENTARY INFORMATION: This is a summary of the Commission's notice of proposed rulemaking, FCC 22-95, adopted December 21, 2022, and released December 22, 2022. The full text is available online at https://docs.fcc.gov/public/attachments/FCC-22-95A1.pdf. The document is also available for inspection and copying during business hours in the FCC Reference Center, 45 L Street NE, Washington, DC 20554. To request materials in accessible formats for people with disabilities, send an email to FCC504@fcc.gov or call the Consumer & Governmental Affairs Bureau at 202-418-0530 (voice), 202-418-0432 (TTY).

Comment Filing Requirements

Interested parties may file comments and reply comments on or before the dates indicated in the DATES section above. Comments may be filed using the Commission's Electronic Comment Filing System (ECFS).

• Electronic Filers. Comments may be filed electronically using the internet by accessing the ECFS: https://apps.fcc.gov/ecfs.

• Paper Filers. Parties who file by paper must include an original and one copy of each filing.

○ Filings may be sent by commercial overnight courier, or by first-class or overnight U.S. Postal Service mail. All filings must be addressed to the Commission's Secretary, Office of the Secretary, Federal Communications Commission.

○ Commercial overnight mail (other than U.S. Postal Service Express Mail and Priority Mail) must be sent to 9050 Junction Drive, Annapolis Junction, MD 20701. U.S. Postal Service first-class, Express, and Priority mail must be addressed to 45 L Street NE, Washington, DC 20554.

○ Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

• People With Disabilities. To request materials in accessible formats for people with disabilities (braille, large print, electronic files, audio format), or to request reasonable accommodations for filing comments (accessible format documents, sign language interpreters, CART, etc.), send an email to FCC504@fcc.gov or call 202-418-0530 (voice) or 202-418-0432 (TTY).

Ex Parte Presentations

Pursuant to 47 CFR 1.1200(a), this proceeding will be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Paperwork Reduction Act

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Synopsis

I. Introduction

1. The notice of proposed rulemaking, seeks comment on changes to the Commission's rules, policies, or practices to facilitate the acceptance for filing of satellite and earth station applications under 47 CFR part 25. We propose to revise a procedural rule to formally allow consideration of satellite applications and petitions that request waiver of the Table of Frequency Allocations to operate in a frequency band without an international allocation. We also seek comment on typical processing timeframes for satellite applications. This Notice will help Commission processing stay apace with the unprecedented number of innovative satellite applications in the new space age.

II. Background

2. The Commission's rules establish filing criteria for satellite and earth station applications submitted under 47 CFR part 25. An application that does not meet these criteria will be deemed unacceptable for filing and will be dismissed and returned to the applicant, with a brief statement identifying the omissions or discrepancies, unless the application requests a waiver of any conflicting rule or requirement or the Commission grants such a waiver on its own motion. A satellite application or petition that has been found defective and must be re-submitted will receive a later filing date under the Commission's first-come, first-served licensing process for geostationary-satellite orbit (GSO)-like satellite applications, or in some instances may result in an applicant missing the cut-off date of a processing round for non-geostationary satellite orbit (NGSO)-like satellite applications, both consequences that may negatively affect the ultimate spectrum sharing conditions of the satellite system. In general, a delay in acceptability for filing may result in a delay in action on the application. The Commission also adopted procedural safeguards against applications that are considered more likely to be speculative or intended to warehouse spectrum resources, including the prohibition on multiple NGSO-like applications or unbuilt NGSO system licenses in the same frequency band. Commission staff conducts an initial review of applications for acceptability for filing and compliance with procedural and substantive rules before they are placed on public notice for comment. Typical issues that prolong staff review and delay acceptance for filing include internal inconsistencies in the application, omission of information required by the rules, omission of waiver requests, missed filing deadlines, and novel issues being raised.

A. Acceptability for Filing

3. Under the rules, an application filed under 47 CFR part 25 is considered unacceptable for filing if:

(1) The application is defective with respect to completeness of answers to questions, informational showings, internal inconsistencies, execution, or other matters of a formal character;

(2) The application does not substantially comply with the Commission's rules, regulations, specific requests for additional information, or other requirements;

(3) The application requests authority to operate a satellite in a frequency band that is not allocated internationally for such operations under the Radio Regulations of the International Telecommunication Union (ITU), unless the application is a streamlined small space station application filed pursuant to 47 CFR 25.122 or a streamlined small spacecraft application filed pursuant to 47 CFR 25.123; or

(4) The application is identical to a pending satellite application that was timely filed pursuant to the processing round procedure in 47 CFR 25.157 or the first-come, first-served processing procedure in 47 CFR 25.158.

4. Applications found defective under criteria (1) or (2) may be accepted for filing if the application requests a waiver, with supporting rationale, of any rule or requirement with which the application is in conflict or if the Commission grants such a waiver upon its own motion. Satellite applications found defective under criteria (3) or (4), under current rules, will not be considered.

5. Under our part 25 rules, the standard for determining whether an application is acceptable for filing is not “letter perfection.” The Commission may place on public notice applications with minor inaccuracies that are not material to the Commission's or the public's review. However, the rules require all applications under 47 CFR part 25 to be substantially complete when they are filed. As a practical matter, in some recent instances, staff has found it efficient to aid applicants to address discrepancies or omissions in their pending applications before placing them on public notice, resulting in fewer applications being dismissed prior to being accepted for filing.

B. Acceptability for Filing of Satellite Applications Not in Conformance With International Frequency Allocations

6. As noted above, unlike most application defects, an application requesting authority to operate a satellite in a frequency band that is not allocated internationally for such operation under the ITU Radio Regulations is deemed unacceptable for filing regardless of whether a waiver of the Table of Frequency Allocations is requested. When the Commission adopted this rule in 2003, it explained that it would dismiss satellite applications without prejudice as “premature” if the application is filed before the ITU adopts a necessary frequency allocation because it can take several years for the ITU to adopt a new allocation. Furthermore, the Commission reasoned that when an applicant files its application “years before it will be possible to provide service,” it is likely that the application may be a “place holder.”

7. Drawing on more recent experience, the Commission has observed that, in the context of small satellites, there may be benefits associated with operations not consistent with the current International Table of Frequency Allocations in certain circumstances. Accordingly, in 2019 the Commission modified the acceptability for filing rule to provide an exception, so that streamlined small satellite applications requesting to operate in bands not allocated internationally, and which include an appropriate waiver request, can be considered on their merits without being deemed unacceptable for filing.

8. If a waiver is granted for satellite operations not in conformance with the International Table of Frequency Allocations, international provisions also apply. Specifically, Article 4.4 of the ITU Radio Regulations states that an administration shall not assign any frequency in derogation of the International Table of Frequency Allocations except on the express condition that the station shall not cause harmful interference to, and shall not claim protection from harmful interference caused by, a station operating in accordance with the provisions of the ITU Constitution, Convention and Radio Regulations. In addition, ITU Rule of Procedure 1.6 provides that an administration, prior to bringing into use any frequency assignment to a transmitting station operating under No. 4.4, shall determine: (a) that the intended use of the frequency assignment to the station under No. 4.4 will not cause harmful interference into the stations of other administrations operating in conformity with the Radio Regulations; and (b) what measures it would need to take in order to comply with the requirement to immediately eliminate harmful interference.

C. Limit on Unbuilt NGSO Systems

9. Another provision that may forestall or delay processing of NGSO applications is the limit on unbuilt NGSO systems. This rule prevents a party from applying for an additional NGSO-like satellite system license in a particular frequency band if that party already has an application for an NGSO-like satellite system license on file or a licensed-but-unbuilt NGSO-like satellite system in the band. The rule was adopted, in addition to bond and milestone requirements, as a means to restrain speculation without restricting applicants' business plans and to give licensees an incentive to turn in licenses for satellite systems that they do not intend to build.

D. Application Processing Timelines

10. In 2015, before the recent surge in applications for NGSO systems, the Commission noted the following expected processing periods for what it described as “straightforward” satellite applications that are not contested, barring any complication:

(1) applications for initial space station authorization or for modification of authorization will be placed on public notice within 45 days of receipt, and acted upon within 60 days after close of the comment period; and

(2) applications for special temporary authority (STA) for a space station will be placed on public notice within 14 days of receipt, if public notice is required, and acted upon within 30 days after close of the comment period. For space-station STA requests that do not require public notice, we expect to act within 30 days of receipt.

11. In 2016, the Satellite Division of the International Bureau announced the following expected processing times for straightforward, uncontested earth station applications, barring any complication:

(1) Applications for an initial earth station authorization or for a modification of authorization will be placed on public notice within 45 days of confirmation of receipt of payment, if not defective per 47 CFR 25.112, and acted upon within 60 days after close of the comment period.

(2) Applications for initial registration of receive-only earth stations or for a modification of registration will be placed on public notice within 30 days of confirmation of receipt of payment, if not defective per 47 CFR 25.112, and acted upon within 45 days after close of the comment period.

(3) Applications for special temporary authority for earth stations will be placed on public notice within 14 days of confirmation of receipt of payment, if not defective per 47 CFR 25.112 and if compliant with 47 CFR 25.120, and acted upon within 30 days after close of the comment period. For such requests that do not require notice to the public before action, if they are not defective per 47 CFR 25.112 and are compliant with 47 CFR 25.120, we expect to act within 30 days of receipt subject to confirmation of receipt of payment.

The Commission has not subsequently updated estimates on processing times, although the volume and complexity of applications has increased.

III. Discussion

12. As the Commission experiences increasing satellite licensing activity we must keep pace with demand and reassess our processes to identify opportunities for streamlining. We tentatively conclude that it is in the public interest to move quickly on license application processing and specifically to begin building a public record on applications early in the process of evaluating them. In this respect, we note that placing an application on public notice as accepted for filing should not be seen as implying that the Commission has no questions regarding the application or that the application is being looked upon favorably for grant.

13. We propose one initial action to streamline the acceptability for filing of satellite applications. As the Commission concluded in the context of small satellites, we believe there are some cases in which a waiver of the Table of Frequency Allocations is warranted to permit operations not in conformance with current international allocations. These may, for example, be operations that can be conducted immediately on an unprotected and non-harmful interference basis and do not represent a “placeholder” for future service after a new international allocation is adopted. We believe waiver requests for satellite operations not in conformance with the International Table of Frequency Allocations, with sufficient supportive reasoning, should be considered on their merits rather than being automatically deemed unacceptable for filing as under current rules. Therefore, we propose to amend the acceptability criteria to place these waiver requests on an equal procedural footing with other requests for waiver of substantive rules, and allow them to be accepted for filing. We invite comment on this proposal, and on any alternatives.

14. In addition, we seek comment on whether to provide guidance, in a rule or otherwise, on the conditions under which a waiver of the International Table of Frequency Allocations is more likely. For example, we could specify that waiver applicants should provide a sufficient electromagnetic compatibility analysis to support a Commission finding that the intended use of the frequency assignment will not cause harmful interference to all other stations operating in conformance with the ITU Radio Regulations. We would indicate that the applicant must make a good-faith effort to demonstrate compatibility at the time of filing its application, with the understanding that it may need to supplement that showing in response to additional information about existing operations provided in the record by conforming spectrum users. We could also specify that an applicant should state its willingness to accept an assignment on a non-interference, unprotected basis. We could additionally indicate that waiver is more likely if there are ongoing, favorable studies and activities in the relevant ITU study group in support of a potential future allocation at a World Radiocommunication Conference. We seek comment on these proposals, and on whether there is other information applicants should submit in support of a waiver request, on other limitations that should be adopted, or alternative means to ensure that the Commission has a full record on which to evaluate requests for waiver of the Table of Frequency Allocations in these instances.

15. We also seek comment on whether the limit on unbuilt NGSO systems rule may be a hinderance to the acceptability of legitimate satellite applications and if so, whether it should be amended. For example, given that this rule was adopted in the context of processing rounds for NGSO applications, should we revise our rules such that it will not apply to NGSO applications that are granted outside of a processing round? Are there other ways in which the rules limiting unbuilt systems should be updated to reflect the current state of development of NGSO systems? Are the rationales underlying the rules equally relevant today? We seek comment generally on updates to our unbuilt NGSO systems rules. Should these rules be revised or eliminated altogether?

16. In the context of overall application processing under 47 CFR part 25, in recent years Commission staff have assisted applicants to correct certain omissions or inconsistencies in their applications that need to be corrected in order for an application to be deemed complete and acceptable for filing under our rules. We seek comment on this approach in several respects. Would it speed application review and ultimately encourage better-prepared applications if we instead dismiss applications containing internal inconsistencies or omissions under 47 CFR 25.112(a)(1)? These applications would be dismissed without prejudice to refiling. We note that in those cases where we do dismiss applications, our approach has been to issue a decision detailing the specific deficiencies in the application. We seek comment on the benefits and drawbacks of the alternative approaches. Alternatively, if we were to loosen the standards for acceptability for filing, would this result in a faster overall processing time for applications? For instance, how should we balance the speed of processing with the completeness and coherence of an application when it is placed on public notice for comment? Is there information that applicants should be able to correct or cure during the public notice period, and how would such an approach affect the ability of interested parties to review and comment on applications? Should we provide additional specificity in our acceptability for filing criteria? Given that internal inconsistencies and omissions are a source of delay in initial application processing, are there any part 25 application rules or application filing guidance that would assist applicants in overcoming this hurdle? For instance, if applicants were to submit relevant technical and other information in only one place in an application, would that reduce the risk of inconsistency? Would any such changes lower the reliability of information provided to the Commission? Is there any technical information currently required to be provided which is more likely to be overlooked or omitted from applications, and therefore delay their processing, that actually is not necessary for Commission or public evaluation of the application? Should certain inconsistencies, for example, in the description of frequency bands being requested, result in dismissal? Is there additional guidance or other assistance we should provide to applicants to avoid required information being omitted in their initial filings? Are there additional ways to reduce the number of errors, omissions, or inconsistencies in application filings, such as by incorporating additional completeness and compliance checks directly into the initial application process, or by introducing additional certifications in place of certain narrative information? Should applications omitting necessary waiver requests be dismissed? How well-supported should a waiver request need to be to overcome the acceptability for filing requirements, including waivers of filing deadlines or waivers that raise novel issues? Are there rules, policies, or practices for other licensing activities at the Commission that could helpfully be applied to satellite or earth station application processing? Are there ways in which we can better streamline inter-Bureau reviews in shared spectrum bands? Are there other areas where the Commission can streamline processing for initial or modification applications including the elimination of duplicative processing requirements, for example duplicative coordination requirements in satellite and earth station licensing? We also seek comment broadly on other process updates, rule changes, or policy reforms the Commission could adopt to help streamline application processing.

17. Finally, we invite comment on the anticipated processing times for straightforward, uncontested satellite and earth station applications noted above, which types of applications (including modification applications) the Commission should consider “straightforward,” and therefore fall under these guidelines, and whether, given the rapidly changing environment of operations in space and associated requests for Commission satellite authorizations, it would make sense to codify or otherwise better highlight our expected processing times for such applications. Or, given the pace of change in space activities and corresponding number of applications presenting unique or complex issues, would identification of a limited number of “straightforward” or “routine” applications result in improved processing times overall? Or would a more flexible approach to processing timeframes allow for the Commission to take into consideration other factors such as anticipated launch dates, and whether the request is an extension of a previously granted application?

18. Specifically regarding applications to add points of communication to existing earth station licenses, should these qualify as “straightforward” so long as the satellite system to be added is either U.S.-licensed or has been granted U.S. market access within the parameters requested in the earth station application and the applicant identifies either the satellite call sign or the earth station license(s) in which the satellite was granted market access? What steps can the Commission take to ensure applicants provide enough information regarding the requested satellite points of communication to facilitate its review, confirm that no additional market access is being sought for any non-U.S.-licensed point of communication, and otherwise expedite these types of applications? For any “straightforward” applications to add an earth station point of communication, would it be appropriate to automatically deem them granted 60 days after they are filed absent other Commission action? To address cases where an earth station applicant may wish to be licensed before it identifies any specific satellite points of communication, should we make any changes to our rules, policies, or practices to permit these cases?

19. Should we consider creating deadlines for certain satellite or earth station applications for making a determination about acceptability for filing, with the alternative being dismissal, and would this result in overall shorter processing times? If so, what deadline might be reasonable? Should the deadline vary depending on the type of application (e.g., GSO, NGSO)? Should there be limitations on the applicability of this deadline—for example, where an operator requests operations not consistent with the International Table of Frequency Allocations, or where the application could involve initiation of a new NGSO processing round, or for contested applications? Would a deadline for making a determination potentially result in more dismissals of applications, since a decision would need to be made on the acceptability of an application within that specific timeframe? Should we adopt broader “shot clocks” for ultimate action on certain types of satellite or earth station applications?

20. We seek comment generally on these issues, and on any other guidance that may assist applicants and speed application processing.

21. Digital Equity and Inclusion. Finally, the Commission, as part of its continuing effort to advance digital equity for all, including people of color, persons with disabilities, persons who live in rural or Tribal areas, and others who are or have been historically underserved, marginalized, or adversely affected by persistent poverty or inequality, invites comment on any equity-related considerations and benefits (if any) that may be associated with the proposals and issues discussed herein. Specifically, we seek comment on how our proposals may promote or inhibit advances in diversity, equity, inclusion, and accessibility, as well the scope of the Commission's relevant legal authority.

IV. Initial Regulatory Flexibility Analysis

22. As required by the Regulatory Flexibility Act (RFA), the Commission has prepared this Initial Regulatory Flexibility Analysis (IRFA) of the possible significant economic impact on a substantial number of small entities by the policies and rules proposed in this Notice. We request written public comments on this IRFA. Commenters must identify their comments as responses to the IRFA and must file the comments by the deadlines provided on the first page of the Notice and as instructed above in paragraph 21. The Commission will send a copy of the NPRM, including the IRFA, to the Chief Counsel for Advocacy of the Small Business Administration. In addition, the NPRM and IRFA (or summaries thereof) will be published in the Federal Register.

A. Need for, and Objectives of, the Proposed Rules

23. The notice of proposed rulemaking (NPRM) seeks comment on ways to facilitate the acceptance for filing of satellite and earth station applications under 47 CFR part 25 to keep pace with growing demand for satellite services. The NPRM specifically inquires whether to change the acceptability rules regarding satellite applications that request to operate a service in a frequency band for which there is no international allocation, and whether to alter the limit of one unbuilt, non-geostationary system application or license in a particular frequency band.

B. Legal Basis

24. The proposed action is authorized under §§ 4(i), 7(a), 303, 308(b), and 316 of the Communications Act of 1934, as amended, 47 U.S.C. 154(i), 157(a), 303, 308(b), 316.

C. Description and Estimate of the Number of Small Entities to Which the Proposed Rules Will Apply

25. The RFA directs agencies to provide a description of, and, where feasible, an estimate of, the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) is independently owned and operated; (2) is not dominant in its field of operation; and (3) satisfies any additional criteria established by the Small Business Administration (SBA).

26. Satellite Telecommunications. This category comprises firms “primarily engaged in providing telecommunications services to other establishments in the telecommunications and broadcasting industries by forwarding and receiving communications signals via a system of satellites or reselling satellite telecommunications.” Satellite telecommunications service providers include satellite and earth station operators. The category has a small business size standard of $35 million or less in average annual receipts, under SBA rules. For this category, U.S. Census Bureau data for 2012 show that there were a total of 333 firms that operated for the entire year. Of this total, 299 firms had annual receipts of less than $25 million. Consequently, we estimate that the majority of satellite telecommunications providers are small entities.

D. Description of Projected Reporting, Recordkeeping, and Other Compliance Requirements for Small Entities

27. The NPRM invites comment on potential changes to the acceptability for filing requirements for satellite and earth station applications in order to expedite their processing. Rule changes adopted as a result of this inquiry would be likely to decrease, or leave unaffected, the compliance requirements for small entities due to any streamlining of the Commission's application processing rules.

E. Steps Taken To Minimize Significant Economic Impact on Small Entities, and Significant Alternatives Considered

28. The RFA requires an agency to describe any significant, specifically small business, alternatives that it has considered in reaching its proposed approach, which may include the following four alternatives (among others): “(1) the establishment of differing compliance or reporting requirements or timetables that take into account the resources available to small entities; (2) the clarification, consolidation, or simplification of compliance and reporting requirements under the rules for such small entities; (3) the use of performance rather than design standards; and (4) an exemption from coverage of the rule, or any part thereof, for such small entities.”

29. The NPRM invites comment on ways to expedite and streamline the initial processing of satellite and earth station applications, which might also benefit small entities such as earth station operators.

F. Federal Rules That May Duplicate, Overlap, or Conflict With the Proposed Rules

30. None.

V. Ordering Clauses

31. It is ordered, pursuant to Sections 4(i), 7(a), 303, and 308(b) of the Communications Act of 1934, as amended, 47 U.S.C. 154(i), 157(a), 303, 308(b), that the notice of proposed rulemaking is Adopted.

32. It is further ordered that the Commission's Consumer and Governmental Affairs Bureau, Reference Information Center will send a copy of the notice of proposed rulemaking, including the Initial Regulatory Flexibility Analysis, to the Chief Counsel for Advocacy of the Small Business Administration, in accordance with § 603(a) of the Regulatory Flexibility Act, 5 U.S.C. 601 et seq.

List of Subjects in 47 CFR Part 25

Administrative practice and procedure, Satellites, Earth stations.

Federal Communications Commission.
Marlene Dortch,
Secretary.

For the reasons discussed in the preamble, the Federal Communications Commission proposes to amend 47 CFR part 25 as follows:

PART 25—SATELLITE COMMUNICATIONS

1. The authority citation for part 25 continues to read as follows:

Authority: 47 U.S.C. 154, 301, 302, 303, 307, 309, 310, 319, 332, 605, and 721, unless otherwise noted.

2. Amend § 25.112 by removing and reserving paragraph (a)(3) and revising the introductory text of paragraph (b) to read as follows:

§ 25.112 Dismissal and return of applications.

* * * * *

(b) Applications for space station authority found defective under paragraph (a)(4) of this section will not be considered. Applications for authority found defective under paragraphs (a)(1) or (2) of this section may be accepted for filing if:

* * * * *

[FR Doc. 2023-00780 Filed 1-13-23; 8:45 am]

BILLING CODE 6712-01-P